ENVIRONMENTAL PROTECTION AGENCY

40 CFR Part 52

[EPA-R03-OAR-2012-0248; FRL-9908-48-Region 3]

Approval and Promulgation of Air Quality Implementation Plans; Pennsylvania; Carbon Monoxide Second Limited Maintenance Plan for the Pittsburgh Area

AGENCY: Environmental Protection Agency (EPA).

ACTION: Direct final rule.

SUMMARY: The Environmental Protection Agency (EPA) is taking direct final action to approve a State Implementation Plan (SIP) revision submitted by the Commonwealth of Pennsylvania. The revision consists of a second limited maintenance plan for the carbon monoxide (CO) Pittsburgh Area (“the Pittsburgh Area” or “the Area”) in Allegheny County, formerly designated as a CO nonattainment area. The maintenance plan ensures maintenance of the CO national ambient air quality standard (NAAQS) in the Pittsburgh Area for a second 10-year period after redesignation of the Area from nonattainment to attainment, through year 2022. EPA is approving these revisions in accordance with the requirements of the Clean Air Act (CAA).

DATES: This rule is effective on May 27, 2014 without further notice, unless EPA receives adverse written comment by April 28, 2014. If EPA receives such comments, it will publish a timely withdrawal of the direct final rule in the Federal Register and inform the public that the rule will not take effect.

ADDRESSES: Submit your comments, identified by Docket ID Number EPA-R03-OAR-2012-0248 by one of the following methods:

A. www.regulations.gov. Follow the on-line instructions for submitting comments.

B. Email: Fernandez.cristina@epa.gov.

C. Mail: EPA-R03-OAR-2012-0248, Cristina Fernandez, Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2012-0248. EPA's policy is that all comments received will be included in the public docket without change, and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy during normal business hours at the Air Protection Division, U.S. Environmental Protection Agency, Region III, 1650 Arch Street, Philadelphia, Pennsylvania 19103. Copies of the State submittal are available at the Pennsylvania Department of Environmental Protection, Bureau of Air Quality Control, P.O. Box 8468, 400 Market Street, Harrisburg, Pennsylvania 17105 and at the Allegheny County Health Department, Bureau of Environmental Quality, Division of Air Quality, 301 39th Street, Pittsburgh, Pennsylvania 15201.

FOR FURTHER INFORMATION CONTACT: Emlyn Vélez-Rosa, (215) 814-2038, or by email at velez-rosa.emlyn@epa.gov.

SUPPLEMENTARY INFORMATION: On July 18, 2011, Pennsylvania Department of Environmental Protection (PADEP) submitted, on behalf of Allegheny County Health Department (ACHD), a revision to the Pennsylvania SIP, which was supplemented on November 26, 2013. The SIP revision ensures maintenance of the CO NAAQS in the Pittsburgh Area for a second ten-year period after redesignation, through year 2022.

Table of Contents

I. Background

II. EPA's Requirements

III. Summary of SIP Revision

IV. EPA's Evaluation

A. Limited Maintenance Plan Eligibility

B. Attainment Inventory

C. Maintenance Demonstration

D. Monitoring Network and Verification of Continued Attainment

E. Contingency Plan

F. Transportation and General Conformity

V. Final Action

VI. Statutory and Executive Order Reviews

I. Background

A. Designations

CO is a colorless, odorless gas emitted from combustion processes. Nationally and, particularly in urban areas, the majority of CO emissions to ambient air come from mobile sources. CO can cause harmful health effects by reducing oxygen delivery to the body's organs (like the heart and brain) and tissues. At extremely high levels, CO can cause death.

EPA initially established the CO NAAQS on April 30, 1971 (36 FR 8186). The primary standards, protective of public health, were set at 9 parts per million (ppm) as an 8-hour average, and 35 ppm, as a 1-hour average, neither to be exceeded more than once per year. Later in 1971, EPA set the secondary standards identical to the primary standards for protection of the public welfare. See 40 CFR 50.8. In a review of the standards completed in 1985 (50 FR 37484, September 13, 1985), EPA retained the primary standard, but revoked the secondary standard due to lack of evidence of direct adverse effect on public welfare at or near ambient concentrations. Although the air quality criteria have changed over the past two decades, the CO primary standard has been retained without revision.

On September 12, 1978 (43 FR 40513), EPA designated for the first time portions of Allegheny County as a CO nonattainment area, referred to as the Pittsburgh Area. The Pittsburgh Area was defined to include the high traffic density areas within the Central Business District of Allegheny County and certain other high traffic density areas. The Central Business District is defined as the area enclosed by the Allegheny River, the Monongahela River, and 579 interstate highway, while “the other high traffic density areas” are defined as the Oakland neighborhood of Pittsburgh, Pennsylvania.

As part of the 1990 CAA Amendments, a provision was added under section 186(a) which authorized EPA to classify nonattainment areas according to the degree of severity of the nonattainment problem. Specifically, CAA section 186(a)(1) provides that each area designated nonattainment for CO should be classified at the time of such designation as “Moderate” (9.1-16.4 ppm) or “Serious” (16.5 ppm and above) based on the design value of the area. Additionally, under section 107(d)(a)(C), at the date of enactment of the 1990 CAA Amendments, all areas of the country were designated with respect to ozone and CO in accordance with the pre-enactment designations by operation of the law.

On November 6, 1991 (56 FR 56694), EPA made final designations and classifications for all areas in the country for all the six criteria pollutants. The designations and classifications for CO (post-enactment of 1990 CAA Amendments) were based on quality assured air monitoring data for years 1988-1989. The Pittsburgh Area maintained its pre-enactment designation as a CO nonattainment area by operation of law. In this designation process, EPA determined that the Pittsburgh Area was a “nonclassifiable” area with respect CO NAAQS, based on the fact that the 1988-1989 air quality design values for the Area were below the lowest CO nonattainment classification of “Moderate” (below 9.1 ppm).

B. Compliance With the CO NAAQS

A monitor is meeting the CO NAAQS if over a 2-year period the second-highest 1-hour value is less than or equal to 35 ppm, and the second-highest, non-overlapping 8-hour value is less than or equal to 9 ppm. These calculated values are referred as the 1-hour and the 8-hour design value, respectively. A design value is calculated to compare to the NAAQS and determine compliance. The CO design values are usually discussed in terms of the 8-hour CO NAAQS, rather than the 1-hour NAAQS, because the 8-hour NAAQS is typically the standard of concern. The design value of an area is the highest site-specific design value of the monitors located within the area. A CO nonattainment area is considered for redesignation if the design value of the Area is below the standards, that is, if there are no violations of the CO NAAQS for two consecutive years. The method for calculating CO design values is presented in detail in EPA's June 18, 1990 memorandum, “Ozone and Carbon Monoxide Design Value Calculations.”

C. Redesignation to Attainment and Maintenance Plan

EPA may redesignate areas to attainment if sufficient monitoring data are available to warrant such change and the area meets the criteria contained in section 107(d)(3)(E) of the CAA. These criteria include, among others, a full approval of a maintenance plan that covers at least 10 years after redesignation, and meets the requirements of section 175A of the CAA. In addition, section 175A of the CAA require states to submit a revision to the maintenance plan eight years after redesignation to provide for maintenance of the NAAQS for 10 years following the end of the first 10-year maintenance period. To address potential future NAAQS violations, the maintenance plan must contain contingency measures, with a schedule for implementation adequate to assure prompt correction of any air quality problems.

On August 17, 2001, the Commonwealth submitted to EPA a redesignation request and a maintenance plan for the Pittsburgh Area for the CO NAAQS. EPA allowed the Commonwealth to develop a “limited maintenance plan” (LMP) for the Pittsburgh Area in addressing the maintenance plan requirements, and thus meeting the applicable requirements for redesignation. According to EPA's October 6, 1995 guidance “Limited Maintenance Plan Option for Nonclassifiable CO Nonattainment Areas,” the LMP option is only available to nonclassifiable CO nonattainment areas with design values at or below the 85 percent (%) of the level of the 8-hour CO NAAQS, or 7.65 ppm. The LMP option allows the areas meeting this requirement to submit a less rigorous maintenance plan than generally required for the CO NAAQS. Since the Pittsburgh Area was designated as a “nonclassifiable” nonattainment area and the Area's 8-hour design value at the time of redesignation was 3.9 ppm, based on 1998-1999 quality assured air monitoring data, EPA concurred with the Commonwealth's determination of submitting an LMP for the Area. On November 12, 2002 (67 FR 68521), EPA granted the Commonwealth's redesignation request and approved as a SIP revision the maintenance plan for the Pittsburgh Area. The SIP revision ensured maintenance of the standard until January 2013.

On July 18, 2011, the Commonwealth submitted as a SIP revision a second 10-year CO maintenance plan for the Pittsburgh Area. In recognition of the continuing record of monitoring data showing ambient CO 8-hour concentrations in the Pittsburgh Area well below 7.65 ppm, ACHD once more chose the LMP option for the development of this second maintenance plan. Further discussion of the maintenance plan requirements and the LMP option is provided in section II of this rulemaking action.

II. EPA's Requirements

Section 175A defines the general framework of a maintenance plan. The maintenance plan will constitute a SIP revision and must provide for maintenance of the relevant NAAQS for at least 10 years after redesignation. Section 175A further states that the plan shall contain such additional measures, if any, as may be necessary to ensure such maintenance. In addition, the maintenance plan should contain such contingency measures as EPA deems necessary to ensure prompt correction or any violation of the NAAQS.

For nonclassifiable CO areas seeking redesignation to attainment whose design value at the time of redesignation is 85 percent or less than the 8-hour CO NAAQS, or 7.65 ppm, a state may choose to submit a less rigorous maintenance plan than generally required. This option is termed a LMP. EPA believes that the full maintenance plan requirements do not need to be applied to these areas because they have achieved air quality levels well below the standard without application of control measures required by the CAA for moderate and serious nonattainment areas. Also, these areas do not have either a recent history of monitored violations of the CO NAAQS or a long prior history of monitored air quality problems for CO. Therefore, EPA believes that for a limited maintenance area, the air quality along with the continued applicability of the prevention of significant deterioration (PSD) permitting requirements, any control measures already in the SIP, and Federal measures, should provide adequate assurance of maintenance over the10-year maintenance period. The same applies for areas submitting their second maintenance plans.

To qualify for the LMP option, the CO design value for the area, based on the eight consecutive quarters (two years of data) used to demonstrate attainment must be at or below 7.65 ppm for the 8-hour CO NAAQS. Additionally, the design value for the area must continue to be at or below the 7.65 ppm for the 8-hour CO NAAQS until the time of EPA's final action. According to EPA's October 6, 1995 guidance “Limited Maintenance Plan Option for Non-classifiable CO Nonattainment Areas,” a LMP submittal must include: An attainment emissions inventory, a maintenance demonstration, a verification of continued attainment, contingency measures, and transportation conformity determination.

As for any maintenance plan, the state should develop an attainment emissions inventory to identify the level of emissions in the area which is sufficient to attain the NAAQS. This inventory should be consistent with EPA's most recent guidance on emissions inventories for nonattainment areas available at the time and should include the emissions during the time period associated with the monitoring data showing attainment. Emissions of CO are generally expected to be the highest during the winter season. Thus, for CO nonattainment areas, the inventory should be based on actual “typical winter day” emissions for the time period associated with the monitoring data showing attainment of the standard. For more information on developing seasonal CO emissions inventories, refer to EPA's guidance documents “Emissions Inventory Requirements for Carbon Monoxide State Implementation Plans” (EPA-450/4-91-011, March 1991) and “Procedures for the Preparation of Emissions Inventories for Carbon Monoxide and Precursors of Ozone; Volume I” (EPA-450/4-91-016, May 1991).

In LMP, the maintenance demonstration requirement is considered to be satisfied if the monitoring data show that the area is meeting the air quality criteria for a limited maintenance area, 7.65 ppm. The design value requirement is expected to provide adequate assurance of maintenance over the 10-year period. The maintenance demonstration does not require the state to project emissions over the maintenance period. In LMP, to verify the attainment status of the area over the maintenance period, the state must show continuous operation of an appropriate EPA-approved air quality monitoring network, in accordance with 40 CFR part 58.

As for any maintenance plan, the state is required to adopt contingency provisions, as necessary, to promptly correct any violation of the NAAQS that occurs after redesignation of the area. In order for the maintenance plan to be approved, a state is not required to have full adopted contingency measures that will take effect without further action by the state; however, the contingency plan is considered to be an enforceable part of the SIP and should ensure that the contingency measures are adopted expediently once they are triggered. The plan should clearly identify the measures to be adopted, a schedule and procedure for adoption and implementation, and a specific time limit for action by the state. As necessary, the state should also identify specific indicators, or triggers, which will be used to determine when the contingency measures need to be implemented.

Transportation conformity is required under section 176(c) of the CAA to ensure that Federally supported highway, transit projects, and other activities are consistent with (conform to) the purpose of the SIP. The CAA requires Federal actions in nonattainment and maintenance areas to “conform to” the goals of the SIP. This means that such actions will not cause or contribute to violations of a NAAQS; worsen the severity of an existing violation; or delay timely attainment of any NAAQS or any interim milestone. EPA has established criteria and procedures for Federal agencies to follow in determining conformity of their actions. EPA's rule governing transportation plans and Federally supported highway, transit projects, and other activities is referred to as the Transportation Conformity Rule (See 40 CFR part 93, subpart A), and EPA's rule governing all other types of Federal agency actions is referred to as the General Conformity Rule (See 40 CFR part 93, subpart B).

Under the Transportation Conformity Rule, metropolitan planning organizations (MPOs) in nonattainment and maintenance areas coordinate with state air quality and transportation agencies, EPA, Federal Highway Administration (FHWA), and Federal Transit Administration (FTA) to demonstrate that their metropolitan transportation plans and transportation improvement plans conform to applicable SIPs. This is typically determined by showing that estimated emissions from existing and planned highway and transit systems are less than or equal to the motor vehicle emissions budgets (MVEBs) contained in a SIP. While EPA's LMP option does not exempt an area from the need to affirm conformity, the area may demonstrate conformity without submitting an emissions budget. Under the LMP option, the emissions budgets are essentially not constraining for the length of the maintenance period, because it is unreasonable to expect that the qualifying area will experience so much growth in that period that a violation of the CO NAAQS would result. For this reason, any Federal actions requiring conformity determinations under the Transportation Conformity Rule could be considered to satisfy the “budget test,” required in 40 CFR 93.158(a)(5)(i)(A), 93.118, 93.119, and 93.120. While not subject to the budget test, the limited maintenance areas remain subject to other transportation conformity requirements of 40 CFR part 93, subpart A.

III. Summary of SIP Revision

On July 18, 2011, PADEP submitted, on behalf of ACHD, a SIP revision which was then supplemented on November 26, 2013. The SIP revision consists of the second 10-year update to the CO NAAQS maintenance plan for the Pittsburgh Area, as required by CAA section 175A(b). The July 18, 2011 submission included a maintenance demonstration, a verification of continued attainment, and a contingency plan. The November 26, 2013 supplemental SIP revision included the attainment emissions inventory. The submittals also include appendices that explain the methodology used for developing emissions inventories, a technical support document, and evidence of public notice, public hearing, response to comments, and adoption of the plan. The maintenance plan also carries forward essentially the same contingency plan as contained in the initial maintenance plan. A more detailed summary of Pennsylvania's SIP submittal may be found in EPA's Technical Support Document (TSD) for this rulemaking action, which is available online at www.regulations.gov, Docket number EPA-R03-OAR-2012-0248.

IV. EPA's Evaluation

A. Limited Maintenance Plan Eligibility

Monitoring data shows that the Pittsburgh Area continues to attain the CO NAAQS. Table 1 presents the historic CO 8-hour design values (i.e., the second highest 8-hour average CO levels) for the CO monitoring sites in the Area over the 1988-2013 period, as recorded in EPA's Air Quality System (AQS) and included in the submittal. As shown, the second highest 8-hour CO average concentrations recorded at all monitoring stations in the Pittsburgh Area have remained below 7.65 ppm since 1994. In addition, ACHD reported that the 1-hour CO NAAQS has not been violated in the Pittsburgh Area since 1980, and has been below 15 ppm since 1988. Thus, monitoring data show that the Pittsburgh Area continues to be eligible for the LMP option.

Table 1—Pittsburgh Area's CO Second Highest 8-Hour Average Concentrations During 1988-2013, in ppm
Year | Oakland ᵃ (42-003-0026) | Forbes Avenue at Grant Street (Courthouse) (42-003-0038) | Gateway Center Subway Entrance (Point) ᵇ (42-003-0052) | Flag Plaza (Bedford Avenue) ᵇ (42-003-0031)
1988 | 8.4 | 6.6 | 6.5 |
1989 | 6.5 | 7.8 | 6.7 |
1990 | 6.9 | 8.1 | 6.5 |
1991 | 5.0 | 6.2 | 6.6 |
1992 | 7.7 | 7.8 | 6.7 |
1993 | 4.8 | 6.2 | 5.2 |
1994 | 5.6 | 7.5 | 6.8 |
1995 | 4.3 | 5.9 | 3.8 |
1996 | 5.0 | 4.8 | 3.9 |
1997 | 2.5 | 3.9 | 2.9 |
1998 |  | 4.9 | 3.1 |
1999 |  | 4.0 | 3.1 |
2000 |  | 3.5 | 2.6 |
2001 |  | 3.4 |  |
2002 |  | 2.9 |  |
2003 |  | 3.5 |  | 2.2
2004 |  | 2.5 |  | 1.9
2005 |  | 2.3 |  | 1.8
2006 |  | 2.1 |  | 1.8
2007 |  | 3.5 |  | 1.3
2008 |  | 1.6 |  | 1.3
2009 |  | 1.5 |  | 1.3
2010 |  | 1.7 |  | 1.2
2011 |  | 1.6 |  | 1.4
2012 |  | 1.7 |  | 1.5
2013ᶜ |  | 1.5 |  | 1.4
Source: Pennsylvania's July 18, 2011 SIP submittal and EPA's January 9, 2014 AQS Reports AMP450.
ᵃ The CO monitor at the Oakland site (AQS ID: 42-003-0026) was terminated in October 1997, as approved by EPA.
ᵇ EPA approved the removal of the CO monitor at the Gateway Center Subway Entrance (Point) (AQS ID: 42-003-0052) in May 2000 and its relocation to the Flag Plaza (AQS ID: 42-003-0031) near the Civic Arena, which started operating in 2003.
ᶜ Air quality monitoring data for 2013 is preliminary.

B. Attainment Emissions Inventory

For the CO maintenance plan, ACHD developed a 2008 attainment emissions inventory to identify the level of actual emissions in the Pittsburgh Area that is sufficient for the Area to continue to attain the CO NAAQS. The Pittsburgh Area's CO attainment inventory is based on the latest available planning assumptions for 2008, reflecting typical winter day CO emissions for the Area. ACHD selected the 2008 year for its attainment emissions inventory because it contained at the time of submittal the most current and comprehensive emissions estimates that were representative of actual emissions in Allegheny County, and because during this time the air quality was showing maintenance of the CO NAAQS in the Area. The 2008 emissions inventory is based on EPA's 2008 National Emissions Inventory (NEI) (Version 2, April 10, 2012) for the months of January, February and December, and seasonal adjustment factors were applied as necessary.

The 2008 attainment inventory contains CO typical winter day emissions estimates of point, area, mobile onroad and mobile nonroad sources in the Area. The primary source of CO emissions in the Pittsburgh Area is the onroad (highway) sources, contributing to 54% of total CO emissions of the Area. Table 2 provides a summary of the 2008 attainment inventory submitted with the maintenance plan. For a more detailed evaluation of the 2008 emissions inventory, see EPA's TSD dated February 4, 2014 for this rulemaking action, which is available online at www.regulations.gov, Docket number EPA-R03-OAR-2012-0248.

Table 2—Pittsburgh Area's CO 2008 Attainment Emissions Inventory, in Tons Per Day (tpd)
Source category | CO typical winter day emissions
Point | 22.76
Area | 57.65
Onroad | 396.38
Nonroad | 96.99
Total | 573.78

C. Maintenance Demonstration

Under the LMP option, there is no requirement to project emissions over the 10-year maintenance period for the Pittsburgh Area, as long as the Area continues to have CO air quality at or below 7.65 ppm. The monitoring data presented in Table 1 show that the Pittsburgh Area has historically measured and continues to measure concentrations below 7.65 ppm. The continuous downward trend in CO monitoring data in the Area has demonstrated that air quality improvements can be attributed to permanent, enforceable reductions of CO emissions. In addition, EPA acknowledges that Allegheny County has a SIP-approved PSD permitting program (78 FR 13493, February 18, 2013), which prevents increase of CO emissions from construction or modification of major stationary sources. EPA believes that the LMP eligibility together with the continuation of existing CO emissions control programs, sufficiently and adequately demonstrate that the Pittsburgh Area will maintain the CO NAAQS through the second 10-year maintenance period and beyond.

Although not required, ACHD included a maintenance demonstration as part of its second maintenance plan to show maintenance of the CO NAAQS during the second 10-year period for the Pittsburgh Area. ACHD used projected inventories to show that the Pittsburgh Area continues to remain in attainment and developed projected inventories for an interim year of 2013 and a maintenance end year of 2022. The projected 2013 and 2022 emissions inventories include typical winter day CO emissions estimates only for the onroad sources in the Pittsburgh Area. As mentioned earlier in this rulemaking action, this sector constitutes the primary emissions source category in the Pittsburgh Area, thus emissions reductions from this source category should be sufficient to demonstrate maintenance of the CO NAAQS for the Area. The projected 2013 and 2022 onroad emissions inventories were developed with EPA's latest highway emissions model at the time of submittal, MOVES2010a,¹ in accordance with EPA's “Technical Guidance on the Use of MOVES2010a for Emission Inventory Preparation in State Implementation Plans and Transportation Conformity.”

¹ MOVES2010 is a computer model designed by EPA to estimate air pollution emissions and emissions inventories of various pollutants and precursors from on-road mobile sources for SIP and transportation conformity purposes. MOVES2010 was designed to replace the previous emissions model, MOBILE6.2, which was released in 2004 (69 FR 28830). MOVES2010 was released on March 2, 2010 (75 FR 9411), while MOVES2010a, a minor revision to enhance model performance, was released subsequently on September 8, 2010. ACHD used MOVES2010a in developing the projected emissions inventories.

ACHD used growth rates based on 2008 local traffic data and socioeconomic forecasts to project traffic parameters to 2013 and 2022 data. Daily and monthly seasonal factors were used to adjust traffic data to a typical winter day. The projected inventories take into account control measures which were in place in 2008 and are expected to be in place throughout 2022 for Allegheny County, which include: The National Low Emission Vehicle Program (NLEV) and Federal Tier II Low Sulfur Program, emissions standards for medium and heavy duty vehicles in 2002, 2004, 2007, and 2011, Stage II and Onboard Refueling Vapor Recovery (ORVR), and the Pennsylvania Clean Vehicles (PCV) Program (PaCode, Title 25, Chapter 126) that incorporates the California Low Emission Vehicle Program (CA LEVII).

After thorough review of the methodology and data assumptions used by ACHD, EPA finds that the 2013 and 2022 emissions inventories were developed in conformance with EPA's guidance, and therefore, are approvable as part of the maintenance demonstration. A summary of the projected onroad CO emissions inventories for the Pittsburgh Area is provided in Table 3. A more detailed evaluation and EPA's rationale for approving the 2013 and 2022 inventories may be found in EPA's TSD for this rulemaking action, which is available online at www.regulations.gov, Docket number EPA-R03-OAR-2012-0248.

Table 3—Pittsburgh Area's CO Projected 2013 and 2022 Vehicle Miles Traveled (VMT) and Typical Winter Day Emissions for Onroad Sources, in tpd
2013: VMT | 2013: CO typical winter day emissions | 2022: VMT | 2022: CO typical winter day emissions
25,727,530 | 394.53 | 28,377,731 | 336.27

The purpose of the maintenance demonstration is to show that future CO emissions will remain at or below the 2008 attainment emissions levels for the Pittsburgh Area through the 2022 maintenance plan end year. Table 4 provides a comparison of the CO emissions inventories for the Pittsburgh Area for the 2008 attainment year, the 2013 interim year, and the 2022 maintenance plan end year. Despite the projected increase in VMT (see Table 3) in the Area, the inventories show that the CO emissions between 2008 and 2022 for the Area are projected to be reduced by 15 percent, due to the implementation of the vehicle control measures in Allegheny County. EPA finds that the maintenance demonstration shows that the Pittsburgh Area will continue to maintain the CO NAAQS during the second maintenance period, throughout 2022.

Table 4—Comparison of the 2008, 2013, and 2022 CO Typical Winter Day Emissions Inventories for Onroad Sources in the Pittsburgh Area, in tpd
Emissions of onroad sources: 2008 | Emissions of onroad sources: 2013 | Emissions of onroad sources: 2022 | Emissions reductions: 2008-2013 | Emissions reductions: 2008-2022
396.38 | 394.53 | 336.27 | 1.85 | 60.11

D. Monitoring Network and Verification of Continued Attainment

In accordance with 40 CFR part 58, ACHD operates and maintains an EPA-approved CO monitoring network in the Pittsburgh Area, in order to verify attainment of the CO NAAQS and ensure the need to trigger contingency measures. Currently, the monitoring network consists of two monitoring sites: The Forbes Avenue and Grant Street site (AQS ID: 42-003-0038) and the Flag Plaza site (AQS ID: 42-003-0031), whose data is eligible for comparison to the CO NAAQS.

EPA believes ACHD's current CO monitoring network is adequate to verify continued attainment of the CO NAAQS in the Pittsburgh Area. ACHD has committed to continue maintaining a CO monitoring network in accordance with EPA's requirements.

E. Contingency Plan

The Pittsburgh Area's second CO maintenance plan carries forward the same contingency provisions that were included in the first maintenance plan and previously approved by EPA. As a triggering event for implementation of the contingency measures of this plan, a verified ambient CO concentration for an 8-hour period over the 8-hour CO NAAQS, or 9.00 ppm, must be recorded at least twice at one monitor station from November to February. In the event of a violation of the 8-hour CO NAAQS, a “vehicle idling restriction” will be implemented as a contingency measure. The vehicle idling restriction is applicable from November to February throughout Allegheny County and consists of limiting to five minutes the amount of time that a gasoline engine vehicle is permitted to idle. This restriction will have the following exceptions: The need for heating and powering of refrigeration systems on trucks, operation of emergency vehicles and vehicles that are motionless due to traffic conditions beyond operator's control. Three (3) months after ACHD records a violation or once EPA notifies ACHD that this contingency measure must be implemented, ACHD will adopt within 12 months the vehicle idling restriction as a regulation. The regulation will be implemented within 8 months after adoption. In the future, ACHD may request EPA to consider the approval of alternative contingency measures by providing a demonstration that the alternative measures will provide an air quality and public health benefit equal to or greater than that resulting from the implementation of the idling restriction. EPA finds this contingency measure approvable for purposes of satisfying CAA section 175A.

F. Transportation Conformity

ACHD did not submit any MVEBs with the Pittsburgh Area's CO second maintenance plan. However, EPA believes that the second maintenance plan demonstrates that it is unreasonable to expect that the Area would experience enough growth in motor vehicle (onroad) emissions for a violation of the CO NAAQS to occur, and on that basis, EPA is proposing to approve this plan for transportation conformity purposes. In accordance with the Transportation Conformity Rule, after EPA's approval of this limited maintenance plan, there will be no requirement for ACHD to satisfy the regional emissions analysis with respect to CO under 40 CFR 93.118 and/or 40 CFR 93.119 in determining the conformity of transportation plans, programs and projects in the Pittsburgh Area. See 40 CFR 93.109(e).

V. Final Action

EPA finds that the Pittsburgh Area second CO maintenance plan concurs with EPA's guidance for limited maintenance plans and thus, satisfies the requirements of CAA section 175A. EPA is approving as an update to the Pennsylvania SIP the Pittsburgh Area CO second maintenance plan, which was submitted as a SIP revision by the Commonwealth of Pennsylvania on July 18, 2011 and supplemented on November 26, 2013. The plan demonstrates maintenance of the CO NAAQS in the Pittsburgh Area for a second 10-year period after redesignation, through year 2022.

EPA is publishing this rule without prior proposal because EPA views this as a noncontroversial amendment and anticipates no adverse comment. However, in the “Proposed Rules” section of today's Federal Register, EPA is publishing a separate document that will serve as the proposal to approve the SIP revision if adverse comments are filed. This rule will be effective on May 27, 2014 without further notice unless EPA receives adverse comment by April 28, 2014. If EPA receives adverse comment, EPA will publish a timely withdrawal in the Federal Register informing the public that the rule will not take effect. EPA will address all public comments in a subsequent final rule based on the proposed rule. EPA will not institute a second comment period on this action. Any parties interested in commenting must do so at this time.

VI. Statutory and Executive Order Reviews

A. General Requirements

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by May 27, 2014. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking action. This action, approving the Pittsburgh Area's CO second maintenance plan, may not be challenged later in proceedings to enforce its requirements. (See section 307(b)(2).)

List of Subjects in 40 CFR Part 52

Environmental protection, Air pollution control, Carbon monoxide, Incorporation by reference, Intergovernmental relations, Reporting and recordkeeping requirements.

Dated: March 7, 2014.
W.C. Early,
Acting Regional Administrator, Region III.

40 CFR part 52 is amended as follows:

PART 52—APPROVAL AND PROMULGATION OF IMPLEMENTATION PLANS

1. The authority citation for part 52 continues to read as follows:

Authority: 42 U.S.C. 7401 et seq.

Subpart NN—Pennsylvania

2. In § 52.2020, the table in paragraph (e)(1) is amended by revising the entry for Carbon Monoxide Maintenance Plan for the City of Pittsburgh. The revised text reads as follows:

§ 52.2020 Identification of plan.

* * * * *

(e) * * *

(1) * * *

Name of non-regulatory SIP revision | Applicable geographic area | State submittal date | EPA approval date | Additional explanation
* * * * * * *
Carbon Monoxide Maintenance Plan | City of Pittsburgh—Central Business District & Oakland | 8/17/01 | 11/12/02 67 FR 68521 | 52.2063(c)(189).
|  | 7/18/12; 11/26/13 | 3/27/14 [Insert page number where the document begins] | Limited maintenance plan covering the 10-year period through 2022.
* * * * * * *

* * * * *

[FR Doc. 2014-06697 Filed 3-26-14; 8:45 am]

BILLING CODE 6560-50-P